DEPARTMENT OF LABOR

Employment and Training Administration

[TA-W-40,405 and TA-W-40,405A]

Xerox Corporation (SOHO) Small Office/Home Office Division Canandaigua, NY and Farmington, NY; Notice of Negative Determination Regarding Application for Reconsideration

By application April 8, 2002, the Union of Needletrades, Industrial & Textile Employees, Local 2541 requested administrative reconsideration of the Department's negative determination regarding eligibility to apply for Trade Adjustment Assistance (TAA), applicable to workers and former workers of the subject firm. The denial notice was signed on March 8, 2002, and published in the Federal Register on March 29, 2002 (67 FR 15226).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Xerox Corporation, (SOHO) Small Office/Home Office Division, Canandaigua, New York (TA-W-40,405) and Xerox Corporation, (SOHO) Small Office/Home Office Division, Farmington, New York (TA-W-40,405A) was denied because the “contributed importantly” group eligibility requirement of Section 222(3) of the Trade Act of 1974, as amended, was not met. The “contributed importantly” test is generally demonstrated through a survey of customers of the workers' firm. The survey revealed that none of the respondents increased their purchases of imported print heads or ink tanks.

The petitioner states that the ink tanks and print heads made in the United States are shipped overseas and boxed with ink jet printers that were manufactured in foreign countries. The boxed jet printer, which includes the ink tank and print head were then imported to the United States.

The petitioner also states that the Department should examine competitor's imports of ink jet printers.

The importing of a boxed ink jet printer with the ink tanks and print head included is not “like or directly competitive” with the product produced (print heads or ink tanks) by the subject firm.

Conclusion

After review of the application and investigative findings, I conclude that there has been no error or misinterpretation of the law or of the facts which would justify reconsideration of the Department of Labor's prior decision. Accordingly, the application is denied.

Signed at Washington, DC this 14th day of May 2002.
Edward A. Tomchick,
Director, Division of Trade Adjustment Assistance.

[FR Doc. 02-14594 Filed 6-10-02; 8:45 am]

BILLING CODE 4510-30-P